DEPARTMENT OF AGRICULTURE

Agricultural Marketing Service

[Doc. No. FV-02-338]

United States Standards for Grades of Grapefruit Juice

AGENCY: Agricultural Marketing Service, USDA.

ACTION: Notice; withdrawal.

SUMMARY: The Agricultural Marketing Service (AMS) is withdrawing a notice soliciting public comments on a petition to change the United States Standards for Grades of Grapefruit Juice. This notice is in response to a letter from a petitioner requesting that their petition be withdrawn.

EFFECTIVE DATE: November 15, 2002.

FOR FURTHER INFORMATION CONTACT: Karen L. Kaufman at (202) 720-5021 or e-mail at karen.kaufman@usda.gov.

SUPPLEMENTARY INFORMATION: A notice was published in the Federal Register (67 FR 39671; June 10, 2002) requesting comments on a petition to change the United States Standards for Grades of Grapefruit Juice. The petitioner, Indian River Citrus League, requested the replacement of the current requirements for U.S. Grade A with the requirements of the Florida Department of Citrus “Gold Standard”. Prior to undertaking research and other work associated with revising the grade standards, AMS decided to seek public comments on the petition.

In response to our request for comments, AMS received six comments from trade associations and various other interested parties. Four of the six comments opposed the proposed new standard.

In a letter dated August 20, 2002, the Indian River Citrus League requested that their petition to change the standards be withdrawn.

The Department is therefore withdrawing the notice published on June 10, 2002, seeking public comments based on the letter from the petitioner withdrawing their request to change the United States Standard for Grade of Grapefruit Juice.

Dated: November 8, 2002.
A.J. Yates,
Administrator, Agricultural Marketing Service.

[FR Doc. 02-29033 Filed 11-14-02; 8:45 am]

BILLING CODE 3410-02-P